ENVIRONMENTAL PROTECTION AGENCY

[FRL-7946-6]

Environmental Justice Strategic Plan Framework and Outline

AGENCY: Environmental Protection Agency (EPA).

ACTION: Supplemental notice; reopening of public comment period.

SUMMARY: On June 22, 2005 (70 FR 36167), EPA's Office of Environmental Justice announced a solicitation for public comment on the draft: (1) “Framework for Integrating Environmental Justice;” and (2) “Environmental Justice Strategic Plan Outline,” which includes proposed Environmental Justice Priorities (“EJ Priorities”). The Framework for Integrating Environmental Justice will be the foundation for the Environmental Justice Strategic Plan for FY2006-2011. The Environmental Justice Strategic Plan Outline identifies the anticipated structure of the EJ Strategic Plan. EPA is drafting the Environmental Justice Strategic Plan to integrate its environmental justice efforts more fully into the Agency's existing programs and operations, including its 5-year planning and budgeting processes. This supplemental notice announces an extension to the public comment period.

DATES: The public comment period is extended to August 15, 2005.

ADDRESSES: Comments should be addressed to Mr. Barry E. Hill, Director, Office of Environmental Justice, U.S. Environmental Protection Agency, 1200 Pennsylvania Avenue, NW., Mail Code 2201A, Ariel Rios South Building, Room 2226, Washington, DC 20460-0001. You may also e-mail comments to hill.barry@epa.gov. Please identify e-mailed comments with the phrase “EJ Strategic Plan Comments” in the subject line.

FOR FURTHER INFORMATION CONTACT: Danny Gogal, Senior Environmental Protection Specialist, EPA Office of Environmental Justice, (202) 564-2576, gogal.danny@epa.gov, or Delleane McKenzie, Senior Program Analyst, EPA Office of Environmental Justice, (202) 564-6358, mckenzie.delleane@epa.gov.

SUPPLEMENTARY INFORMATION: To provide additional time for the public to comment and in response to requests for additional time, EPA is extending the comment period until August 15, 2005.

The draft Framework identifies the proposed key elements of the EJ Strategic Plan that will help the Agency track progress and benchmark its national environmental justice program objectives. The draft Framework also describes the proposed link between the Environmental Justice Action Plans of the Agency's 10 regional offices and the substantive headquarters program offices (e.g., Office of Air and Radiation, Office of Solid Waste and Emergency Response) and the National Environmental Justice Priorities and targets established in the EJ Strategic Plan.

The draft Outline identifies the “mission” and “vision” that will guide the Environmental Justice Strategic Plan and identifies where specific Environmental Justice Strategic Targets will be included, once they are developed. The Outline also includes 12 potential National EJ Priorities, which would help focus attention on critical human health and environmental issues faced by communities with disproportionate impacts (e.g., asthma reduction, healthy schools, safe drinking water). While the regional offices will continue to take action on a wide range of environmental justice issues, using a spectrum of strategies including cross-cutting approaches (e.g., community capacity-building, grants, training) to address local needs, we would like to select 5-7 priorities for heightened national attention. Therefore, in addition to providing comments on the overall Outline, we ask that you rank the potential priorities (1 = highest priority, 12 = lowest priority) and submit your ranking with your other comments. If you have additional suggested priorities, please include those as well.

The draft “Framework for Integrating Environmental Justice” and the “Environmental Justice Strategic Plan Outline,” along with responses to anticipated questions and a one-page fact sheet, are available online at: http://www.epa.gov/compliance/resources/reports/ej.html. A hardcopy of these documents is available upon request.

Dated: July 25, 2005.
Barry E. Hill,
Director, Office of Environmental Justice.

[FR Doc. 05-15041 Filed 7-27-05; 8:45 am]

BILLING CODE 6560-50-P